SECURITIES AND EXCHANGE COMMISSION

Release No. 34-70235; File No. SR-NYSEMKT-2013-59]

Self-Regulatory Organizations; NYSE MKT LLC; Notice of Designation of a Longer Period for Commission Action on Proposed Rule Change Amending Rule 965NY, Which Governs NDX and RUT Combination Orders

August 20, 2013.

On June 21, 2013, NYSE MKT LLC (“Exchange”) filed with the Securities and Exchange Commission (“Commission”), pursuant to Section 19(b)(1) of the Securities Exchange Act of 1934 (“Act”) ¹ and Rule 19b-4 thereunder,² a proposed rule change to amend Rule 965NY, which governs NDX and RUT Combination Orders. The proposed rule change was published for comment in the Federal Register on July 9, 2013.³ The Commission received two comment letters on this proposal ⁴ and a response letter from the Exchange.⁵

¹ 15 U.S.C. 78s(b)(1).

² 17 CFR 240.19b-4.

³ See Securities Exchange Act Release No. 69919 (July 2, 2013), 78 FR 41168.

⁴ See comment letters to Elizabeth M. Murphy, Secretary, Commission, from Darren Story, CFA, Student Options, LLC, dated July 12, 2013; and from David Spack, Chief Compliance Officer, Casey Securities, LLC, dated August 2, 2013.

⁵ See comment letter to Elizabeth M. Murphy, Secretary, Commission, from Janet McGinness, EVP & Corporate Secretary, NYSE Euronext, dated August 19, 2013.

Section 19(b)(2) of the Act ⁶ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is August 23, 2013. The Commission is now extending the time period for Commission action.

⁶ 15 U.S.C. 78s(b)(2).

The Commission finds it appropriate to designate a longer period within which to take action on the proposed rule change so that it has sufficient time to consider this proposed rule change, the comment letters that have been submitted in connection with this proposed rule change, and the Exchange's response letter.

Accordingly, the Commission, pursuant to Section 19(b)(2) of the Act,⁷ designates October 7, 2013 as the date by which the Commission should either approve or disapprove, or institute proceedings to determine whether to disapprove, the proposed rule change (File No. SR-NYSEMKT-2013-59).

⁷ 15 U.S.C. 78s(b)(2).

⁸ 17 CFR 200.30-3(a)(31).

For the Commission, by the Division of Trading and Markets, pursuant to delegated authority.⁸
Kevin M. O'Neill,
Deputy Secretary.

[FR Doc. 2013-20678 Filed 8-23-13; 8:45 am]

BILLING CODE 8011-01-P